DEPARTMENT OF HEALTH AND HUMAN SERVICES

Administration for Children and Families

Statement of Organization, Functions and Delegation of Authority

Notice is hereby given that I delegate to the Director of the Office of Refugee Resettlement the following authority delegated to the Assistant Secretary for Children and Families by the Secretary of the Department of Health and Human Services under the William Wilberforce Trafficking Victims Protection Reauthorization Act of 2008, Public Law 110-457, section 212.

(a) Authority Delegated

1. Authority to provide interim assistance to children who may have been subjected to a severe form of trafficking and to conduct activities related to eligibility letters under the William Wilberforce Trafficking Victims Protection Reauthorization Act of 2008, Public Law 110-457, section 212(a)(2). In exercising the authority to conduct activities related to eligibility letters, personnel in the Administration for Children and Families will consult with the Attorney General, the Secretary of Homeland Security and nongovernmental organizations with expertise on victims of trafficking.

2. Authority to train Federal staff and State and local officials to improve identification and protection for trafficking victims under the William Wilberforce Trafficking Victims Protection Reauthorization Act of 2008, Public Law 110-457, section 212(b)(1) and (2).

(b) Limitations

1. This delegation shall be exercised under the Department's existing delegation of authority and policy on regulations.

2. This delegation shall be exercised under financial and administrative requirements applicable to all Administration for Children and Families authorities.

(c) Effective Date

This delegation of authority is effective on date of signature.

Dated: April 10, 2009.
Curtis L. Coy,
Acting Assistant Secretary for Children and Families.

[FR Doc. E9-9693 Filed 4-27-09; 8:45 am]

BILLING CODE 4184-01-P